DEPARTMENT OF TRANSPORTATION

Coast Guard

33 CFR Part 165

[CGD01-99-203]

RIN 2115-AA98, AA84, AE46

Temporary Regulations: OPSAIL 2000, Port of New London, CT

AGENCY: Coast Guard, DOT.

ACTION: Temporary final rule; correction.

SUMMARY: This document corrects a final rule published in the Federal Register of June 14, 2000, concerning temporary regulations OPSAIL 2000 events to held at the Port of New London, Connecticut. That document contained inaccurate positions for Safety Zones 1 and 2.

DATES: The correction is effective June 30, 2000.

FOR FURTHER INFORMATION CONTACT: Master Chief K.G. Dolan, Group/MSO Long Island Sound, New Haven, Connecticut, (203) 468-4429.

SUPPLEMENTARY INFORMATION:

Correction

As published, the temporary final rule contains inaccurate latitude and longitude positions and several other positions that need to be corrected.

Correction of Publication

Accordingly, in the publication on June 14, 2000, of the temporary final rule [CGD01-99-203], which is the subject of FR Doc. 00-15009, is corrected as follows:

§ 165.T01-198 Safety Zones: OPSAIL 2000, Port of New London, Connecticut.

1. On page 37282, in the third column, line 63 and on page 37284, in the third column, line 52, the Longitude position “072°05′8.7″ W” should read “072°05′8″ W”.

2. On page 37283, in the first column, line 19 and on page 37285, in the first column, line 7, position “41°17′38″ N, 072°04′40″ W” should read “41°17′6″ N, 072°04′7″ W”.

3. On page 37283, in the first column, line 22, and on page 37285, in the first column, line 10, position “41°15′38″ N, 072°08′22″ W” should read, “41°15′6″ N, 072°08′4″ W”.

4. On page 37283, in the first column, line 23, and on page 37285, in the first column, line 11, the word “south” should read “north”.

5. On page 37283, in the first column, line 24, and on page 37285, in the first column, line 12, “(LLNR 21065)” should read “(LLNR 21075)”

6. On page 37283, in the first column, line 27, and on page 37285, in the first column, line 15, “bearing 192°T” should read “bearing 065°T”.

Dated: June 21, 2000.
R.F. Duncan,
Captain, U.S. Coast Guard, Acting Commander, First Coast Guard District.

[FR Doc. 00-16624 Filed 6-29-00; 8:45 am]

BILLING CODE 4910-15-U